DEPARTMENT OF ENERGY

Federal Energy Regulatory Commission

Combined Notice of Filings

Take notice that the Commission has received the following Natural Gas Pipeline Rate and Refund Report filings:

Filings Instituting Proceedings

Docket Numbers: PR24-6-000.

Applicants: Hope Gas, Inc.

Description: Report Filing: HGI—2023 PREP Filing Supplemental Filing to be effective N/A.

Filed Date: 12/1/23.

Accession Number: 20231201-5170.

Comment Date: 5 p.m. ET 12/22/23.

Docket Numbers: PR24-18-000.

Applicants: Boston Gas Company.

Description: § 284.123 Rate Filing: Revised Statement of Operating Conditions to be effective 1/1/2024.

Filed Date: 11/30/23.

Accession Number: 20231130-5232.

Comment Date: 5 pm ET 12/21/23.

Docket Numbers: PR24-19-000.

Applicants: Louisville Gas and Electric Company.

Description: § 284.123(g) Rate Filing: Operating Statement Rate Change Exhibit A Statement of Rates to be effective 11/1/2023.

Filed Date: 12/1/23.

Accession Number: 20231201-5161.

Comment Date: 5 pm ET 12/22/23.

§ 284.123(g) Protest: 5 pm ET 1/30/24.

Docket Numbers: PR24-20-000.

Applicants: Intermountain Gas Company.

Description: § 284.123 Rate Filing: Statement of Operating Conditions Baseline to be effective 12/1/2023.

Filed Date: 12/1/23.

Accession Number: 20231201-5176.

Comment Date: 5 pm ET 12/22/23.

Docket Numbers: RP24-197-000.

Applicants: UGI Mt. Bethel Pipeline Company, LLC.

Description: Annual Report of Operational Purchases and Sales of UGI Mt. Bethel Pipeline, LLC.

Filed Date: 11/30/23.

Accession Number: 20231130-5154.

Comment Date: 5 pm ET 12/12/23.

Docket Numbers: RP24-198-000.

Applicants: Rockies Express Pipeline LLC.

Description: § 4(d) Rate Filing: REX 2023-11-30 Negotiated Rate Agreements to be effective 12/1/2023.

Filed Date: 11/30/23.

Accession Number: 20231130-5167.

Comment Date: 5 pm ET 12/12/23.

Docket Numbers: RP24-199-000.

Applicants: TransColorado Gas Transmission Company LLC.

Description: § 4(d) Rate Filing: TC Quarterly FL&U Update Nov. 2023 to be effective 1/1/2024.

Filed Date: 11/30/23.

Accession Number: 20231130-5175.

Comment Date: 5 pm ET 12/12/23.

Docket Numbers: RP24-200-000.

Applicants: Mojave Pipeline Company, L.L.C.

Description: § 4(d) Rate Filing: Annual Fuel and L&U Filing 2024 to be effective 1/1/2024.

Filed Date: 11/30/23.

Accession Number: 20231130-5192.

Comment Date: 5 pm ET 12/12/23.

Docket Numbers: RP24-202-000.

Applicants: Tennessee Gas Pipeline Company, L.L.C.

Description: § 4(d) Rate Filing: Negotiated Rate Agreements Filing (Koch_Lackawanna) to be effective 12/1/2023.

Filed Date: 11/30/23.

Accession Number: 20231130-5218.

Comment Date: 5 pm ET 12/12/23.

Docket Numbers: RP24-203-000.

Applicants: Gulf South Pipeline Company, LLC.

Description: § 4(d) Rate Filing: Superseding Neg Rate Agmt (Texla 57490) to be effective 11/30/2023.

Filed Date: 11/30/23.

Accession Number: 20231130-5219.

Comment Date: 5 pm ET 12/12/23.

Docket Numbers: RP24-204-000.

Applicants: LA Storage, LLC.

Description: § 4(d) Rate Filing: Filing of Negotiated Rate I/W Agreements 11.30.23 to be effective 12/1/2023.

Filed Date: 11/30/23.

Accession Number: 20231130-5238.

Comment Date: 5 pm ET 12/12/23.

Docket Numbers: RP24-205-000.

Applicants: UGI Sunbury, LLC.

Description: Annual Report of Operational Purchases and Sales of UGI Sunbury, LLC.

Filed Date: 11/30/23.

Accession Number: 20231130-5251.

Comment Date: 5 pm ET 12/12/23.

Docket Numbers: RP24-206-000.

Applicants: El Paso Natural Gas Company, L.L.C.

Description: § 4(d) Rate Filing: Non-Conforming Agreements Filing (ExxonMobil) to be effective 1/1/2024.

Filed Date: 11/30/23.

Accession Number: 20231130-5247.

Comment Date: 5 pm ET 12/12/23.

Docket Numbers: RP24-207-000.

Applicants: El Paso Natural Gas Company, L.L.C.

Description: § 4(d) Rate Filing: Non-Conforming Agreements Update (APS 2023) to be effective 1/1/2024.

Filed Date: 11/30/23.

Accession Number: 20231130-5263.

Comment Date: 5 pm ET 12/12/23.

Docket Numbers: RP24-208-000.

Applicants: Southeast Supply Header, LLC.

Description: § 4(d) Rate Filing: Negotiated Rates—FPL to be effective 1/1/2024.

Filed Date: 12/1/23.

Accession Number: 20231201-5011.

Comment Date: 5 pm ET 12/13/23.

Docket Numbers: RP24-209-000.

Applicants: Equitrans, L.P.

Description: § 4(d) Rate Filing: Negotiated Rate Capacity Release Agreements—12/1/2023 to be effective 12/1/2023.

Filed Date: 12/1/23.

Accession Number: 20231201-5019.

Comment Date: 5 pm ET 12/13/23.

Docket Numbers: RP24-210-000.

Applicants: Algonquin Gas Transmission, LLC.

Description: § 4(d) Rate Filing: Negotiated Rates—Various Releases eff 12-1-23 to be effective 12/1/2023.

Filed Date: 12/1/23.

Accession Number: 20231201-5057.

Comment Date: 5 pm ET 12/13/23.

Docket Numbers: RP24-211-000.

Applicants: NEXUS Gas Transmission, LLC.

Description: § 4(d) Rate Filing: Negotiated Rates—Various Releases eff 12-1-2023 to be effective 12/1/2023.

Filed Date: 12/1/23.

Accession Number: 20231201-5058.

Comment Date: 5 pm ET 12/13/23.

Docket Numbers: RP24-212-000.

Applicants: Texas Eastern Transmission, LP.

Description: § 4(d) Rate Filing: Negotiated Rates—December 2023 Clean Up Filing eff 1-1-24 to be effective 1/1/2024.

Filed Date: 12/1/23.

Accession Number: 20231201-5059.

Comment Date: 5 pm ET 12/13/23.

Docket Numbers: RP24-213-000.

Applicants: MountainWest Pipeline, LLC.

Description: § 4(d) Rate Filing: FGRP Report for 2024 to be effective 1/1/2024.

Filed Date: 12/1/23.

Accession Number: 20231201-5062.

Comment Date: 5 pm ET 12/13/23.

Docket Numbers: RP24-214-000.

Applicants: El Paso Natural Gas Company, L.L.C.

Description: § 4(d) Rate Filing: Negotiated Rate Agreement Update (Conoco Dec 4 2023) to be effective 12/4/2023.

Filed Date: 12/1/23.

Accession Number: 20231201-5073.

Comment Date: 5 pm ET 12/13/23.

Docket Numbers: RP24-215-000.

Applicants: Gas Transmission Northwest LLC.

Description: Compliance filing: Annual Fuel Charge Adjustment 2023 Report to be effective N/A.

Filed Date: 12/1/23.

Accession Number: 20231201-5077.

Comment Date: 5 pm ET 12/13/23.

Docket Numbers: RP24-216-000.

Applicants: Chandeleur Pipe Line, LLC.

Description: Compliance filing: Chandeleur FLLA Filing to be effective N/A.

Filed Date: 12/1/23.

Accession Number: 20231201-5106.

Comment Date: 5 pm ET 12/13/23.

Docket Numbers: RP24-217-000.

Applicants: Eastern Shore Natural Gas Company.

Description: § 4(d) Rate Filing: Capital Cost Surcharge #4 Eff. January 1, 2024 to be effective 1/1/2024.

Filed Date: 12/1/23.

Accession Number: 20231201-5114.

Comment Date: 5 pm ET 12/13/23.

Docket Numbers: RP24-218-000.

Applicants: Transwestern Pipeline Company, LLC.

Description: § 4(d) Rate Filing: Negotiated Rates Filing—Assignment XTO/EMOC to be effective 12/1/2023.

Filed Date: 12/1/23.

Accession Number: 20231201-5130.

Comment Date: 5 pm ET 12/13/23.

Docket Numbers: RP24-219-000.

Applicants: Gulf South Pipeline Company, LLC.

Description: § 4(d) Rate Filing: Cap Rel Neg Rate Agmt (Osaka 46429 to ConocoPhillips 57588) to be effective 12/1/2023.

Filed Date: 12/1/23.

Accession Number: 20231201-5142.

Comment Date: 5 pm ET 12/13/23.

Docket Numbers: RP24-220-000.

Applicants: Rockies Express Pipeline LLC.

Description: § 4(d) Rate Filing: REX 2023-12-01 Negotiated Rate Agreements to be effective 12/2/2023.

Filed Date: 12/1/23.

Accession Number: 20231201-5145.

Comment Date: 5 pm ET 12/13/23.

Docket Numbers: RP24-221-000.

Applicants: NEXUS Gas Transmission, LLC.

Description: § 4(d) Rate Filing: Negotiated Rates—DTE Electric 860002 eff 12-1-2023 to be effective 12/1/2023.

Filed Date: 12/1/23.

Accession Number: 20231201-5167.

Comment Date: 5 pm ET 12/13/23.

Docket Numbers: RP24-222-000.

Applicants: Cameron Interstate Pipeline, LLC.

Description:§ 4(d) Rate Filing: Cameron Interstate Pipeline Adjustment of Fuel Retainage Per to be effective 1/1/2024.

Filed Date: 12/1/23.

Accession Number: 20231201-5191.

Comment Date: 5 pm ET 12/13/23.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP11-1591-000.

Applicants: Golden Pass Pipeline LLC.

Description: Refund Report: 2023 Penalty and Revenue Cost Report of Golden Pass Pipeline LLC to be effective N/A.

Filed Date: 12/1/23.

Accession Number: 20231201-5020.

Comment Date: 5 pm ET 12/13/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 1, 2023.
Kimberly D. Bose,
Secretary.

[FR Doc. 2023-26870 Filed 12-6-23; 8:45 am]

BILLING CODE 6717-01-P